DEPARTMENT OF TRANSPORTATION

Federal Aviation Administration

[Summary Notice No. PE-2005-46]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on August 24, 2005.
Anthony F. Fazio,
Director, Office of Rulemaking.

Disposition of Petitions

Docket No.: FAA-2001-10875.

Petitioner: Fresh Water Adventures, Inc.

Sections of 14 CFR Affected: 14 CFR 91.323(b)(4).

Description of Relief Sought/Disposition: To permit Fresh Water Adventures, Inc. to operate its Grumman Goose G-21A amphibian aircraft at a weight that is in excess of that airplane's maximum certified weight.

Grant, 06/01/2005, Exemption No. 7070C.

Docket No.: FAA-2002-12484.

Petitioner: Dynamic Aviation.

Sections of 14 CFR Affected: 14 CFR 137.53(c)(2).

Description of Relief Sought/Disposition: To permit pilots employed by Dynamic Aviation, to conduct aerial applications of insecticides of pheromones for aircraft not equipped with a load jettisoning system; and to allow Dynamic Aviation pilots to operate additional aircraft under this exemption.

Grant, 06/01/2005, Exemption No. 7827E.

Docket No.: FAA-2005-21697.

Petitioner: George's Aviation Services, Inc.

Sections of 14 CFR Affected: 14 CFR 135.143(c)(2).

Description of Relief Sought/Disposition: To permit George's Aviation Services to operate certain aircraft under part 135 without a TSO-C112 (Mode S) transponder installed in the aircraft.

Grant, 06/05/2005, Exemption No. 8577.

Docket No.: FAA-2002-11723.

Petitioner: United States Coast Guard.

Sections of 14 CFR Affected: 14 CFR 91.117(b) and (c), 91.119(c), 91.159(a), 91.209(a).

Description of Relief Sought/Disposition: To permit the United States Coast Guard to conduct air operations in support of drug law enforcement and drug traffic interdiction without meeting part 91 provisions governing: (1) aircraft speed, (2) minimum safe altitudes, (3) cruising operations for flights conducted under visual flight rules, and (4) use of aircraft lights.

Grant, 06/06/2005, Exemption No. 5231H.

Docket No.: FAA-2003-15806.

Petitioner: Ameristar Air Cargo, Inc.

Sections of 14 CFR Affected: 14 CFR 91.203(a) and (b), 121.153(a)(1).

Description of Relief Sought/Disposition: To permit Ameristar Air Cargo, Inc., to operate its U.S. registered aircraft in domestic operations temporarily following the incidental loss or mutilation of that aircraft's unworthiness certificate or registration certificate, or both.

Grant, 06/06/2005, Exemption No. 8127A.

Docket No.: FAA-2005-20225.

Petitioner: Era Helicopters, LLC.

Sections of 14 CFR Affected: 14 CFR 135.143(c)(2).

Description of Relief Sought/Disposition: To permit Era Helicopters, LLC to operate certain aircraft under part 135 without a TSO-C112 (Mode S) transponder installed in the aircraft.

Grant, 06/06/2005, Exemption No. 8484A.

Docket No.: FAA-2005-20948.

Petitioner: Honeywell International, Inc.

Sections of 14 CFR Affected: 14 CFR 21.325(b)(3).

Description of Relief Sought/Disposition: To permit Honeywell's Organizational Designated Airworthiness representatives to issue export airworthiness approvals for Class II and Class III products manufactured at the Honeywell facility in Hermosillo, Sonora, Mexico.

Denial, 06/08/2005, Exemption No. 8566.

Docket No.: FAA-2005-21319.

Petitioner: Mentone Flying Club, Inc.

Sections of 14 CFR Affected: 14 CFR 135.251, 135.255, and 135.353, and appendices I and J.

Description of Relief Sought/Disposition: To permit Mentone Flying Club, Inc., to conduct local sightseeing flights at the Fulton County Airport, Rochester, Indiana, for the Round Barn Festival on June 11, 2005, for compensation or hire, without complying with certain anti-drug and alcohol misuse prevention requirements of part 135.

Grant, 06/07/2005, Exemption No. 8560.

Docket No.: FAA-2005-21386.

Petitioner: Aris Helicopters.

Sections of 14 CFR Affected: 14 CFR 135.143(c)(2).

Description of Relief Sought/Disposition: To permit Aris Helicopters to operate certain aircraft under part 135 without a TSO-C112 (Mode S) transponder installed in the aircraft.

Grant, 06/09/2005, Exemption No. 8561.

Docket No.: FAA-2004-17395.

Petitioner: Flying Boat, Inc. d.b.a Chalk's International Airlines.

Sections of 14 CFR Affected: 14 CFR 121.354(b).

Description of Relief Sought/Disposition: To permit Flying Boat, Inc. d.b.a Chalks International Airlines (Chalk's), to continue to operate four Grumman Turbine Mallard G73T aircraft after March 29, 2005, without having an approved terrain awareness and warning system that meets the requirements for Class A equipment in Technical Standard Order (TSO)-C151 installed on these aircraft. The exemption also permits Chalk's to operate these aircraft without an approved terrain awareness display.

Grant, 06/10/2005, Exemption No. 8563.

Docket No.: FAA-2005-20146.

Petitioner: Mr. Mike Vande Guchte.

Sections of 14 CFR Affected: 14 CFR 135.251, 135.255, and 135.353 and appendices I and J.

Description of Relief Sought/Disposition: To permit Mr. Mike Vande Guchte to conduct local sightseeing flights at the Tulip City Airport, Holland, Michigan, on June 25, 2005, for compensation or hire, without complying with certain anti-drug and alcohol misuse prevention requirements of part 135.

Grant, 06/10/2005, Exemption No. 8564.

Docket No.: FAA-2003-15027.

Petitioner: Liberty Aviation Services, LLC.

Sections of 14 CFR Affected: 14 CFR 135.143(c)(2).

Description of Relief Sought/Disposition: To permit Liberty Aviation Services, LLC, to operate certain aircraft under part 135 without a TSO-C112 (Mode S) transponder installed in those aircraft.

Grant, 06/10/2005, Exemption No. 8035A.

Docket No.: FAA-2005-21090.

Petitioner: Air Arctic.

Sections of 14 CFR Affected: 14 CFR 135.143(c)(2).

Description of Relief Sought/Disposition: To permit Air Arctic to operate aircraft under part 135 without a TSO-C112 (Mode S) transponder installed in the aircraft.

Grant, 06/10/2005, Exemption No. 8567.

Docket No.: FAA-2001-9782.

Petitioner: Clarke Mosquito Control.

Sections of 14 CFR Affected: 14 CFR 91.313(d).

Description of Relief Sought/Disposition: To permit Clarke Mosquito Control to carry passengers in certain aircraft, certificated in the restricted category, while performing aerial-site survey flights.

Grant, 06/10/2005, Exemption No. 8568.

Docket No.: FAA-2001-9463.

Petitioner: Fare Share, Ltd.

Sections of 14 CFR Affected: 14 CFR 135.143(c)(2).

Description of Relief Sought/Disposition: To permit Fare Share, Ltd., to operate certain aircraft without a TSO-C112 (Mode S) transponder installed in the aircraft.

Grant, 06/10/2005, Exemption No. 7542B.

Docket No.: FAA-2003-16067.

Petitioner: Corporate Air.

Sections of 14 CFR Affected: 14 CFR 135.143(c)(2).

Description of Relief Sought/Disposition: To permit Corporate Air to operate certain aircraft without a TSO-C112 (Mode S) transponder installed on aircraft.

Grant, 06/10/2005, Exemption No. 8133A.

Docket No.: FAA-2004-17662.

Petitioner: Liberty Foundation, Inc.

Sections of 14 CFR Affected: 14 CFR 91.315, 119.5(g), and 119.21(a).

Description of Relief Sought/Disposition: To permit Liberty Foundation, Inc., to operate it's Boeing B-17 aircraft with registration no. N390TH and serial no. 44-85734 to carry passengers for compensation or hire on local flights for educational and historical purposes.

Grant, 06/10/2005, Exemption No. 8565.

Docket No.: FAA-2001-9352.

Petitioner: International Aerobatic Club.

Sections of 14 CFR Affected: 14 CFR 91.151(a)(1).

Description of Relief Sought/Disposition: To permit International Aerobatic Club members to carry less than the visual flight rules fuel requirements under certain conditions.

Grant, 06/13/2005, Exemption No. 5745F.

Docket No.: FAA-2001-8754.

Petitioner: Everts Air Fuel, Inc.

Sections of 14 CFR Affected: 14 CFR 91.9(a).

Description of Relief Sought/Disposition: To allow Everts Air Fuel, Inc., to operate its McDonnell Douglas DC-6 aircraft (registration no. N251CE, N444CE, N451CE, N888DG, and N400UA) at a 5-percent increased zero fuel weight and landing weight for all-cargo aircraft to provide supplies to people in isolated villages in Alaska.

Grant, 06/13/2005, Exemption No. 4296M.

Docket No.: FAA-2005-20224.

Petitioner: American Military Heritage Foundation.

Sections of 14 CFR Affected: 14 CFR 119.5(g) and 119.21(a).

Description of Relief Sought/Disposition: To permit American Military Heritage Foundation to operate its Lockheed PV-2 aircraft (with registration no. N7265C and serial no.15-1362) to carry passengers for compensation or hire on local flights for educational historical purposes.

Grant, 06/17/2005, Exemption No. 8570.

Docket No.: FAA-2003-16009.

Petitioner: Mr. Richard E. Druschel.

Sections of 14 CFR Affected: 14 CFR 91.109(a) and (b)(3).

Description of Relief Sought/Disposition: To permit Mr. Richard E. Druschel to conduct certain flight instruction and simulated instrument flights to meet the recent experience requirements in certain Beech aircraft equipped with a functioning throw-over control wheel in place of functioning dual controls.

Grant, 06/21/2005, Exemption No. 8125A.

Docket No.: FAA-2001-9195.

Petitioner: Helicopter Association International.

Sections of 14 CFR Affected: 14 CFR 135.213(a).

Description of Relief Sought/Disposition: To permit Helicopter Association International and Association of Air Medical Services to conduct Emergency Medical Services departures under instrument flight rules in weather that is at or above visual flight rules minimums from airports or helicopters at which a weather report is not available from the U.S. National Weather Service (NWS), a source approved by the NWS, or a source approved by the Administrator.

Grant, 06/22/2005, Exemption No. 6175E.

Docket No.: FAA-2001-10013.

Petitioner: Federal Express.

Sections of 14 CFR Affected: 14 CFR 121.623(a) and (d), 121.643, and 121.645(e).

Description of Relief Sought/Disposition: To permit Federal Express to conduct supplemental operations within the 48 contiguous United States and the District of Columbia using flight regulations for alternate airports as required by § 121.619 and the fuel reserve regulations as required by § 121.639 that are applicable to domestic operations.

Grant, 06/22/2005, Exemption No. 7608B.

Docket No.: FAA-2005-12110.

Petitioner: Nassau Helicopters.

Sections of 14 CFR Affected: 14 CFR 135.143(c)(2).

Description of Relief Sought/Disposition: To permit Nassau Helicopters to operate certain aircraft under part 135 without a TSO-C112 (Mode S) transponder installed in the aircraft.

Grant, 06/23/2005, Exemption No. 8572.

Docket No.: FAA-2000-8142.

Petitioner: St. Louis Helicopters, LLC.

Sections of 14 CFR Affected: 14 CFR 135.143(c)(2).

Description of Relief Sought/Disposition: To permit St. Louis Helicopters, LLC, to operate certain aircraft under part 135 without a TSO-C112 (Mode S) transponder installed in the aircraft.

Grant, 06/23/2005, Exemption No. 8489A.

Docket No.: FAA-2003-14964.

Petitioner: Republic Helicopters, Inc.

Sections of 14 CFR Affected: 14 CFR 135.143(c)(2).

Description of Relief Sought/Disposition: To permit Republic Helicopters, Inc., to operate certain aircraft under part 135 without a TSO-C112 (Mode S) transponder installed in the aircraft.

Grant, 06/23/2005, Exemption No. 6912C.

Docket No.: FAA-2005-21301.

Petitioner: Bell Helicopter Textron, Inc.

Sections of 14 CFR Affected: 14 CFR 21.231(a)(3).

Description of Relief Sought/Disposition: To permit Bell Helicopters, Inc., to apply for Delegation Option Authorization for type, production, and airworthiness certification of transport category and special class rotorcraft.

Grant, 06/17/2005, Exemption No. 8574.

Docket No.: FAA-2004-19323.

Petitioner: Delta Air Lines, Inc.

Sections of 14 CFR Affected: 14 CFR 121.619.

Description of Relief Sought/Disposition:

To permit Delta Airlines, Inc., certificated dispatchers and Delta Airlines, Inc., pilots in command relief from § 121.619 to the extent necessary to dispatch flights to domestic airports at which for at least 1 hour before and 1 hour after the estimated time of arrival at the destination airport the appropriate weather reports or forecasts, or any combination of them, indicate the ceiling may be reduced from at least 2,000 feet to 1,000 feet above the airport elevation, and visibility may be reduced from at least 3 miles to 2 miles.

Grant, 06/27/2005, Exemption No. 8575.

Docket No.: FAA-2003-14356.

Petitioner: TransMeridian Airlines.

Sections of 14 CFR Affected: 14 CFR 121.434(c)(1)(ii).

Description of Relief Sought/Disposition: To permit TransMeridian Airlines to substitute a qualified and authorized check airman or aircrew program designee for a Federal Aviation Administration inspector to observe a qualifying pilot in command who is completing initial or upgrade training specified in § 121.424 during at least one flight leg that includes a takeoff and a landing.

Grant, 06/27/2005, Exemption No. 8087A.

Docket No.: FAA-2001-10028.

Petitioner: Pemco World Air Services.

Sections of 14 CFR Affected: 14 CFR 21.325(b)(3).

Description of Relief Sought/Disposition: To permit Pemco's Organizational Designated Airworthiness Representatives to issue export airworthiness approvals for Class II and Class III products manufactured at the Pemco supplier facilities in Foligno, Italy, and at the Pemco distribution facility in Xiamen, China.

Grant, 06/29/2005, Exemption No. 7885B.

Docket No.: FAA-2003-14918.

Petitioner: Aero Charter & Transport, Inc.

Sections of 14 CFR Affected: 14 CFR 135.143(c)(2).

Description of Relief Sought/Disposition: To permit Aero Charter & Transport, Inc., to operate certain aircraft under part 135 without a TSO-C112 (Mode S) transponder installed in the aircraft.

Grant, 06/29/2005, Exemption No. 8576.

Docket No.: FAA-2004-18617.

Petitioner: Honeywell International, Inc.

Sections of 14 CFR Affected: 14 CFR 21.325(b)(3).

Description of Relief Sought/Disposition: To permit Honeywell's Organizational Designated Airworthiness Representatives to issue export airworthiness approvals for Class II and Class III products manufactured at Honeywell facilities in the Peoples Republic of China, the Czech Republic, Germany, Indonesia, Poland, Romania, and Russia.

Grant, 06/29/2005, Exemption No. 8504A.

Docket No.: FAA-2003-15953.

Petitioner: Boston-Maine Airways, Corp. d.b.a. Pan Am Clipper Connection.

Sections of 14 CFR Affected: 14 CFR 121.434(c)(1)(ii).

Description of Relief Sought/Disposition: To permit Boston-Maine Airways, Corp. d.b.a. Pan Am Clipper Connection, to substitute a qualified and authorized check airman or aircrew designee for a Federal Aviation Administration inspector to observe a qualifying pilot in command who is completing initial upgrade training specified in § 121.424 during at least one flight leg that includes a takeoff and a landing.

Grant, 06/29/2005, Exemption No. 8122A.

Docket No.: FAA-2005-21160.

Petitioner: Multi-Aero, Inc., d.b.a. Air Choice One.

Sections of 14 CFR Affected: 14 CFR 135.154(b)(2).

Description of Relief Sought/Disposition: To permit Multi-Aero, Inc., d.b.a. Air Choice One, to operate its aircraft (registration no. N694MA) without being equipped with an approved terrain awareness and warning system that meets the requirements for Class B equipment in Technical Standard Order C151.

Denial, 06/21/05, Exemption No. 8571.

[FR Doc. 05-17217 Filed 8-29-05; 8:45 am]

BILLING CODE 4910-13-P